DEPARTMENT OF JUSTICE

Notice of Lodging of Modification to Consent Decree Under the Comprehensive Environmental Response, Compensation, and Liability Act

Notice is hereby given that on August 17, 2009, a proposed modification “Modification”) to the Consent Decree in United States v. City of Newburgh, et al., Civil Action No. 08 Civ. 7378 (SCR) (“Consent Decree”) was lodged with the United States District Court for the Southern District of New York.

The Modification adds 58 potentially responsible parties to a prior Consent Decree regarding the the Consolidated Iron and Metal Company Superfund Site (the “Site”). The Site is a former junkyard and scrap metal processing facility located in the City of Newburgh, New York. Consolidated Iron and Metal Company, Inc. (“Consolidated”) operated the facility from the 1950s until 1999. These 58 parties arranged for scrap metal containing hazardous substances to be transported to the Site for treatment or disposal. Consolidated, in the course of processing scrap metal materials, contaminated the Site with hazardous substances, including lead, polychlorinated biphenyls and volatile organic compounds.

Under the Modification, $426,220 will be paid on behalf of these 58 parties to the United States. Under the Modification, the 58 parties will receive a covenant not to sue regarding the Site from the United States, on behalf of the Environmental Protection Agency (“EPA”), under section 107 of the Comprehensive Environmental Response, Compensation, and Liability Act of 1980, as amended (“CERCLA”), 42 U.S.C. 9607, and contribution protection regarding the Site under section 113 of the CERCLA, 42 U.S.C. 9613.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. City of Newburgh, et al., D.J. Ref. 90-11-3-07979/2.

The Modification may be examined at the Office of the United States Attorney, 86 Chambers Street, 3rd Floor, New York, New York 10007, and at U.S. EPA Region 2, Office of Regional Counsel, 290 Broadway, New York, New York 10007-1866. During the public comment period, the Modification may also be examined on the following Department of Justice Web site, http://www.usdoj.gov/enrd/Consent_Decrees.html. A copy of the Modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Maureen Katz,
Assistant Chief, Environmental Enforcement Section, Environment and Natural Resources Division.

[FR Doc. E9-20144 Filed 8-20-09; 8:45 am]

BILLING CODE 4410-15-P